DEPARTMENT OF COMMERCE

Bureau of the Census

[Docket Number 070104002-7003-01]

Census Designated Place (CDP) Program for the 2010 Census—Proposed Criteria

AGENCY: Bureau of the Census, Commerce.

ACTION: Notice of proposed program and request for comments.

SUMMARY: Census designated places (CDPs) ¹ are statistical geographic entities representing closely settled, unincorporated communities that are locally recognized and identified by name. They are the statistical equivalents of incorporated places, with the primary differences being the lack of both a legally defined boundary and an active, functioning governmental structure, chartered by the state and administered by elected officials. CDPs defined for the 2010 Census also will be used to tabulate American Community Survey, Puerto Rico Community Survey, and Economic Census data after 2010, and potentially data from other Bureau of the Census (Census Bureau) censuses and surveys.

¹ The term CDP includes communidades and zonas urbanas in Puerto Rico.

The Census Bureau is publishing this notice in the Federal Register to request comments from the public and other government agencies. The Census Bureau will respond to the comments received as part of the publication of final criteria in the Federal Register. After the final criteria are published in the Federal Register, the Census Bureau will offer designated governments or organizations an opportunity to review and, if necessary, suggest updates to the boundaries and attributes of the CDPs in their geographic area under the Participant Statistical Areas Program (PSAP). In addition to CDPs, the program also encompasses the review and update of census tracts, block groups, and census county divisions.

DATES: Written comments must be submitted on or before July 5, 2007.

ADDRESSES: Please direct all written comments on this proposed program to the Director, U.S. Census Bureau, Room 8H001, mail stop 0100, Washington, DC 20233-0001.

FOR FURTHER INFORMATION CONTACT: Requests for additional information on this proposed program should be directed to Michael Ratcliffe, Chief, Geographic Standards and Criteria Branch, Geography Division, U.S. Census Bureau, via e-mail at geo.psap.list@census.gov or telephone at 301-763-3056.

SUPPLEMENTARY INFORMATION:

I. History

The CDP concept and delineation criteria have evolved over the past five decades in response to data user needs for place-level data. This evolution has taken into account differences in the way in which places were perceived, and the propensity for places to incorporate in various states. The result, over time, has been an increase in the number and types of unincorporated communities identified as CDPs, as well as increasing consistency in the relationship between the CDP concept and the kinds of places encompassed by the incorporated place category, or a compromise between localized perceptions of place and a concept that would be familiar to data users throughout the United States, Puerto Rico, and the Island Areas.

Although not as numerous as incorporated places or municipalities,² CDPs have been important geographic entities since their introduction for the 1950 census. (CDPs were referred to as “unincorporated places” from 1950 through the 1970 decennial censuses.) For the 1950 Census, CDPs were defined only outside urbanized areas and were required to have at least 1,000 residents. For the 1960 Census, CDPs could also be identified inside urbanized areas outside of New England, but these were required to have at least 10,000 residents. The Census Bureau modified the population threshold within urbanized areas to 5,000 in 1970, allowed for CDPs in urbanized areas in New England in 1980, and lowered the urbanized area threshold again to 2,500 in 1990. In time, other population thresholds were adopted for identification of CDPs in Alaska, as well as in Puerto Rico, the Island Areas, and on American Indian reservations. The Census Bureau eliminated all population threshold requirements for Census 2000, achieving consistency between CDPs and incorporated places, for which the Census Bureau historically has published data without regard to population size.

² Known by various terms throughout the United States: cities, towns (except in the six New England States, New York, and Wisconsin), villages, and boroughs (except in New York and Alaska).

According to Census 2000, more than 35 million people in the United States ³, Puerto Rico, and the Island Areas ⁴ lived in CDPs. The relative importance of CDPs varies from state to state depending on laws governing municipal incorporation and annexation, but also depending on local preferences and attitudes regarding the identification of places.

³ For Census Bureau purposes, the United States includes the fifty states and the District of Columbia.

⁴ For Census Bureau purposes, the Island Areas includes the U.S. Virgin Islands, American Samoa, the Commonwealth of the Northern Mariana Islands, and Guam. There are no CDPs in American Samoa because villages cover its entire territory and population.

II. Census Designated Place Criteria and Characteristics for the 2010 Census

The criteria proposed herein apply to the United States, including American Indian reservations and off-reservation trust lands, Puerto Rico, and the Island Areas. In accordance with the final criteria, the Census Bureau may modify and, if necessary, reject any proposals for CDPs that do not meet the established criteria. In addition, the Census Bureau reserves the right to modify the boundaries and attributes of CDPs as needed to maintain geographic relationships before the final tabulation geography is set for the 2010 Census.

The Census Bureau proposes the following criteria and characteristics for use in identifying the areas that will qualify for designation as CDPs for use in tabulating data from the 2010 Census, the American Community Survey, the Puerto Rico Community Survey, the Economic Census, and potentially other Census Bureau censuses and surveys.

1. A CDP constitutes a single, closely settled center of population that is named; to the extent possible, individual unincorporated communities should be identified as separate CDPs. Similarly, a single community should be defined as a single CDP as opposed to multiple CDPs with each part referencing the community name and a directional term (i.e., north, south, east, or west). Since a CDP is defined to provide data for a single, named locality, the Census Bureau generally will not accept combinations of places and hyphenated place names defined as a CDP. For example, CDPs such as Poplar-Cotton Center and Downieville-Lawson-Dumont are no longer acceptable. Combinations of places often were defined as a single CDP in order to comply with the Census Bureau's minimum population requirements. The Census Bureau's elimination of population threshold criteria has made such combinations unnecessary. Others were combined because visible features were not available for use as boundaries for separate CDPs. The Census Bureau is proposing use of some nonvisible boundaries so that participants can separate individual communities and dispense with multi-place CDPs.

2. A CDP generally consists of a contiguous cluster of census blocks comprising a single piece of territory and containing a mix of residential and commercial uses similar to that of an incorporated place of similar size. Some CDPs, however, may be predominantly residential; such places should represent recognizably distinct, locally known communities, but not typical suburban subdivisions. Examples of such predominantly residential communities that can be recognized as CDPs are colonias found along the U.S.-Mexico border, small rural communities, and unincorporated resort and retirement communities.

3. A CDP may not be located, either partially or entirely, within an incorporated place or another CDP.

4. A CDP may not be coextensive with the boundaries of one or more governmentally functioning Minor Civil Divisions (MCDs) in the six New England states, Michigan, Minnesota, New Jersey, New York, Pennsylvania, and Wisconsin, nor may it encompass the entirety of one town or township and contain portions of adjacent towns or townships.

This criterion is proposed for the first time for the 2010 Census in order to eliminate redundancy in tabular presentations of data published by the Census Bureau for towns/townships and places. For instance, because geographic comparison tables and inventory tables providing data for places also contain data for MCDs within these twelve states, redundancy occurs wherever a CDP is coextensive with an MCD. For example, in place-level tables for Massachusetts, data are published for both Framingham town and Framingham CDP, the latter covering the same population and territory as the former. In adopting this criterion, the Census Bureau will explore ways to enhance the presentation and visibility of data for MCDs in these twelve states, to make it clearer that many of the MCDs in these states are seen as similar to places in other parts of the United States.

5. A CDP may be located in more than one county but must not cross state boundaries. It is important to note, however, that since county boundaries provide important demarcations for communities, CDPs that cross county lines should be kept to a minimum and identified only when the community clearly sees itself existing on both sides of a county boundary.

6. There are no minimum population or housing unit thresholds for defining CDPs; however a CDP must contain some population or housing units or both. The Census Bureau eliminated minimum population thresholds for CDPs for Census 2000, enabling the identification and tabulation of data for small, unincorporated communities, particularly in rural areas, as CDPs. Six CDPs identified for Census 2000, however, lacked any population and housing; three CDPs had some population, but no housing units; and an additional 23 CDPs contained less than ten housing units. The Census Bureau recognizes that some communities, such as resort or other kinds of seasonal communities, may lack population at certain times of the year. Nevertheless, there should be some evidence, generally in the form of houses, barracks, dormitories, commercial buildings and/or other structures, providing the basis for local perception of the place's existence. For the 2010 Census, the Census Bureau will not accept a CDP delineated with zero population and zero housing units. The Census Bureau will review the number of housing units within the place, as reported in the previous decennial census, and consider whether additional information is needed before recognizing the CDP. Participants submitting boundaries for places with less than 10 housing units may be asked to provide additional information attesting to the existence of the CDP.

7. CDP boundaries should follow visible features, except in those circumstances when a CDP's boundary is coincident with the nonvisible boundary of a state, county, MCD (in the six New England states, Michigan, Minnesota, New Jersey, New York, Pennsylvania, and Wisconsin), or incorporated place. In selected circumstances, CDP boundaries can follow other nonvisible features. Reliance upon visible features sometimes has resulted in overbounding of the CDP in order to include housing units on both sides of a road or street feature. While this has helped ensure accurate allocation of housing units to the place, it also has meant that territory, population, and housing not associated with the place have been included in the CDP. For the 2010 Census, advances and enhancements in the positional accuracy of housing units within the Census Bureau's geographic databases make it possible to consider the potential use of nonvisible boundaries when defining CDPs. Such boundaries might include parcel boundaries and public land survey system (PLSS) lines; fencelines; national, state, or local park boundaries; ridgelines; or drainage ditches.

8. The CDP name should be one that is recognized and used in daily communication by the residents of the community. Because unincorporated communities lack legally-defined boundaries, a commonly used community name and the geographic extent of its use by local residents is often the best identifier of the extent of a place, the assumption being that if residents associate with a particular name and use it to identify the place in which they live, then the CDP's boundaries can be mapped based on the use of the name. There should be features in the landscape that use the name, such that a non-resident would have a general sense of the location or extent of the community; for example, signs indicating when one is entering the community; highway exit signs that use the name; businesses, schools, or other buildings that make use of the name. It should not be a name developed solely for planning or other purposes (including simply to obtain data from the Census Bureau) that is not in regular daily use by the local residents and business establishments.

9. A CDP may not have the same name as an adjacent or nearby incorporated place. The assumption behind this criterion is that if the community does not have a name that distinguishes it from other nearby communities, it probably is not a distinct place. Use of directional terms (“north,” “south,” “east,” “west,” and so forth) to merely differentiate the name of a CDP from a nearby municipality where this name is not in local use is not acceptable. For example, “North Laurel” would be permitted as a name if this name were in local use. A name such as “Laurel North” would not be permitted if it were not in local use. Again, this has much to do with the way in which people typically refer to the places in which they live. It is permissible to change the name of a 2000 CDP for the 2010 Census if the new name provides a better identification of the community.

III. Definitions of Key Terms

Alaska Native regional corporation (ANRC)—A corporate geographic area established under the Alaska Native Claims Settlement Act (Pub. L. 92-203), to conduct both the business and nonprofit affairs of Alaska Natives. Twelve ANRCs cover the State of Alaska except for the Annette Island Reserve.

American Indian reservation (AIR)—A federally recognized American Indian land area with boundaries established by final treaty, statute, executive order, and/or court order, and over which a federally recognized American Indian tribal government has governmental authority. Along with reservations, designations such as colonies, communities, pueblos, rancherias, and reserves apply to AIRs.

Census block—A geographic area bounded by visible and/or invisible features shown on a map prepared by the U.S. Census Bureau. A block is the smallest geographic entity for which the Census Bureau tabulates decennial census data.

Coextensive—Descriptive of two or more geographic entities that cover exactly the same area, with all boundaries shared.

Comunidad—A census designated place in Puerto Rico that is not related to a municipio's seat of government; called an aldea or a ciudad prior to the 1990 census.

Contiguous—Descriptive of geographic areas that are adjacent to one another, sharing either a common boundary or point of contact.

Housing unit—A house, an apartment, a mobile home or trailer, or a group of rooms or a single room occupied as a separate living quarter or, if vacant, intended for occupancy as a separate living quarter. Separate living quarters are those in which the occupants live and eat separately from any other residents of the building and which have direct access from outside the building or through a common hall.

Incorporated place—A type of governmental unit, incorporated under state law as a city, town (except in New England, New York, and Wisconsin), borough (except in Alaska and New York), or village, generally to provide governmental services for a concentration of people within legally prescribed boundaries.

Island areas—An entity, other than a state or the District of Columbia, under the jurisdiction of the United States. For the 2010 Census, these will include American Samoa, Guam, the Commonwealth of the Northern Mariana Islands, the U.S. Virgin Islands, and several small islands in the Caribbean Sea and the Pacific Ocean. The Census Bureau treats each Island Territory as the statistical equivalent of a state.

Minor civil division—The primary governmental or administrative division of a county in 28 states, Puerto Rico, and the Island Areas having legal boundaries, names, and descriptions. MCDs represent many different types of legal entities with a wide variety of characteristics, powers, and functions depending on the state and type of MCD. In some states, some or all of the incorporated places also constitute MCDs.

Municipio—A type of governmental unit that is the primary legal subdivision of Puerto Rico. The Census Bureau treats the municipio as the statistical equivalent of a county.

Nonvisible feature—A map feature that is not visible, such as a city or county boundary, a property line running through space, a short imaginary extension of a street or road, or a point-to-point line.

Statistical geographic entity—A geographic entity that is specially defined and delineated, such as block group, CDP, or census tract, so that the Census Bureau may tabulate data for it. Designation as a statistical entity neither conveys nor confers legal ownership, entitlement, or jurisdictional authority.

Urbanized area (UA)—An area consisting of a central place(s) and adjacent urban fringe that together have a minimum residential population of at least 50,000 people and generally an overall population density of at least 1,000 people per square mile. The Census Bureau uses published criteria to determine the qualification and boundaries of UAs at the time of each decennial census or from the results of a special census during the intercensal period.

Visible feature—A map feature that can be seen on the ground such as a road, railroad track, major above-ground transmission line or pipeline, stream, shoreline, fence, sharply defined mountain ridge, or cliff. A nonstandard visible feature is a feature that may not be clearly defined on the ground (such as a ridge), may be seasonal (such as an intermittent stream), or may be relatively impermanent (such as a fence). The Census Bureau generally requests verification that nonstandard features pose no problem in their location during field work.

Zona urbana—In Puerto Rico, the settled area functioning as the seat of government for a municipio. A zona urbana cannot cross a municipio boundary.

Executive Order 12866

This notice has been determined to be not significant under Executive Order 12866.

Paperwork Reduction Act

This program notice does not represent a collection of information subject to the requirements of the Paperwork Reduction Act, 44 U.S.C. Chapter 35.

Dated: April 3, 2007.
Charles Louis Kincannon,
Director, Bureau of the Census.

[FR Doc. E7-6465 Filed 4-5-07; 8:45 am]

BILLING CODE 3510-07-P